DEPARTMENT OF DEFENSE

Department of the Army

Appointment of Members to the Board of Directors of the Army West Point Athletic Association

AGENCY: Department of the Army, DOD.

ACTION: Notice of intent to make appointments to the Board of Directors for the Army West Point Athletic Association (AWPAA).

SUMMARY: The Department of the Army is publishing this notice to announce the DoD General Counsel has concurred with the Secretary of the Army's intent to appoint the Deputy Chief of Staff, G-1, U.S. Army; the Commandant of Cadets, U.S. Military Academy; and, the Dean of the Academic Board, U.S. Military Academy, for service on the Board of Directors for the AWPAA.

FOR FURTHER INFORMATION CONTACT: John S. Frost, Senior Counsel—Legislation in writing at the Office of the Staff Judge Advocate, ATTN: John S. Frost, 646 Swift Road, West Point, NY 10996; by email at john.frost@westpoint.edu; or by telephone at 845-938-3205.

SUPPLEMENTARY INFORMATION: Under 10 U.S.C. 1033 and the Joint Ethics Regulation, Department of Defense Directive (DoDD) 5500.07-R, paragraph 3-202, the Secretary of the Army may authorize personnel to participate in the management of a Non-Federal Entity (NFE) with the concurrence of the DOD General Counsel.

The Army West Point Athletic Association (AWPAA) is the 503(c)(3) corporation organized under the provisions of title 10, United States Code, section 7462, to execute the U.S. Military Academy's intercollegiate athletics mission. The AWPAA is governed by a Board of Directors (BOD), which is responsible for the day-to-day operations of the AWPAA as well as the general corporate responsibilities of the organization. Of the minimum of seven BOD positions made available under its by laws, three are reserved for members of the Armed Forces. The purpose of Armed Forces membership on the AWPAA BOD is to provide oversight, advice and coordination with AWPAA. Their activities will not extend to the day-to-day operations of the AWPAA. The DoD General Counsel has designated the AWPAA as an entity for which DOD personnel may participate in management activities.

James W. Satterwhite, Jr.,
Army Federal Register Liaison Officer.

[FR Doc. 2024-03347 Filed 2-16-24; 8:45 am]

BILLING CODE 3711-02-P